DEPARTMENT OF THE INTERIOR

Bureau of Land Management

[WO-830-1820-XP-CRES]

Proposed Information Collection—National Landscape Conservation System

AGENCY: Bureau of Land Management, Interior.

ACTION: Notice of request for comments.

SUMMARY: The Bureau of Land Management (BLM) NLCS survey will provide us with social science input to support planning for facilities, programs, services, and interpretive exhibits. The BLM anticipates that the information we collect could lead to revisions in processes, policies, and improvement in serving the American public. The study will use the surveys to: (1) Better understand the needs and desires of the public; and (2) respond to those needs and desires accordingly.

DATES: You must submit your comments to BLM at the address below on or before July 5, 2006. BLM will not necessarily consider any comments received after the above date.

ADDRESSES: You may mail comments to: Regulatory Affairs Group (WO-630), Eastern States Office, 7450 Boston Blvd., Springfield, Virginia 22153.

You may send comments via Internet to: comments_washington@blm.gov. Please include “ATTN: 1004-XXXX” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Tony Mayfield, Bureau of Land Management, Business and Fiscal Resources, Division of Evaluations, on (202) 452-5166. Persons who use a telecommunication device for the deaf (TDD) may call the Federal Information Relay Service (FIRS) on 1-800-877-8330, 24 hours a day, seven days a week, to contact Mr. Mayfield.

SUPPLEMENTARY INFORMATION: In accordance with 5 CFR 1320.12(a), BLM must provide a 60-day notice in the Federal Register concerning a proposed collection of information to solicit comments on: (1) The practical utility of the information being gathered; (2) the accuracy of the burden hour estimate; (3) ways to enhance the quality, utility, and clarity of the information to be collected; and (4) ways to minimize the burden to respondents, including use of automated information collection techniques or other forms of information technology.

Interior's Department-wide Customer and Citizen-Centered Service Policy admonishes its bureaus and offices to consult and communicate with customers to integrate their feedback into our programs and business processes in order to improve our service to them. Executive Order (E.O.) 12862 (September 11, 1993) aimed at “ensuring the Federal Government provides the highest quality service possible to the American people” fortifies our mandate by the Secretary of the Interior and the Administration to provide “citizen-centered government.”

Title: BLM National Landscape Conservation System Survey.

Bureau Form Number: None.

OMB Control Number: TBD.

Type of Request: New Collection.

Description of Need: BLM will request approval of an information collection of NLCS surveys so that we may better fulfill our responsibilities to provide excellence in government by proactively consulting with those we serve to identify opportunities to improve our information, services, and products to better meeting their needs. These surveys will be used to answer certain questions on: Travel choices and factors that influence decisions that individuals make prior to, during, or following their trips to NLCS area, such as use of overnight accommodations, trip route, trip origin, trip destination(s), payment of entrance/user fees, ability to obtain tickets, and length of trip. Also, there will be questions about the types of recreation activities that individuals participate in during their visits to NLCS areas. These activities vary depending on the type of resource, but examples include picnicking, camping, driving for pleasure, rafting, biking, angling, canoeing, horseback riding, visiting cultural/historical sites, swimming, studying nature, taking photographs, and historical re-enactments. Also, there will be questions about individual perceptions of the natural, social, and cultural environments in the NLCS areas that they visit. This includes perceptions of the values and benefits of the areas, observations about overall experiences, interactions with other customers, natural resources, cultural resources, or BLM employees. Lastly, there will be questions about individual opinions on the management of NLCS areas (including attitudes toward alternative management actions and policies), and natural, cultural, and social aspects of NLCS.

Automated data collection: At this time, we will not be gathering information in an automated way.

Description of Respondents: This proposal seeks approval to collect information from BLM customers visiting areas within the NLCS, which includes National Monuments, National Science and Historical Trails, Wilderness Areas, Wild and Scenic Rivers, and Wilderness Study Areas. Participating offices in 2006 include BLM Wyoming and BLM Oregon management of the natural, cultural, and social aspects of NLCS.

Estimated average number of respondents: 1800.

Estimated average number of responses: 1260.

Estimated average burden hours per response: 20 minutes.

Frequency of Response: 1 time per respondent.

Estimated Annual reporting burden: 420.

BLM will summarize all responses to this notice and include them in the request for OMB approval. All comments will become a matter of public record.

Dated: April 28, 2006.
Ted R. Hudson,
Bureau of Land Management, Information Collection Clearance Officer.

[FR Doc. 06-4258 Filed 5-4-06; 8:45 am]

BILLING CODE 4310-84-M